DEPARTMENT OF THE INTERIOR

Fish and Wildlife Service

Endangered and Threatened Wildlife and Plants; Initiation of a 5-Year Review of the Northern Distinct Population Segment of the Copperbelly Water Snake

AGENCY: Fish and Wildlife Service, Interior.

ACTION: Notice of review.

SUMMARY: The U.S. Fish and Wildlife Service (Service, we), announces a 5-year review of the northern distinct population segment (DPS) (i.e., in Michigan, Ohio, and Indiana north of 40 degrees north latitude) of the copperbelly water snake (Nerodia erythrogaster neglecta) under section 4(c)(2)(A) of the Endangered Species Act of 1973 (Act) (16 U.S.C. 1531 et seq.). We request any information on the snake that has become available since its original listing in 1997 (62 FR 4183) that has a bearing on its classification as threatened.

A 5-year review is a periodic process conducted to ensure that the classification of a listed species is appropriate. It is based on the best scientific and commercial data available at the time of the review. Based on the results of this 5-year review, we will make a finding of whether this species is properly classified under section 4(c)(2)(B) of the Act.

DATES: Information must be received no later than August 1, 2006.

ADDRESSES: Submit information to the U.S. Fish and Wildlife Service, Ecological Services Field Supervisor, 2651 Coolidge Road, Suite 101, East Lansing, Michigan 48823-6316, or electronic information to: fw3copperbellywatersnake5year@fws.gov. See SUPPLEMENTARY INFORMATION for file formats and other information.

FOR FURTHER INFORMATION CONTACT: Ms. Carrie Tansy, East Lansing Ecological Services Field Office (see ADDRESSES); telephone (517) 351-6289; facsimile (517) 351-1443. Individuals who are hearing impaired or speech impaired may call the Federal Relay Service at (800) 877-8337 for TTY assistance.

SUPPLEMENTARY INFORMATION: Under the Act, the Service maintains a list of endangered and threatened wildlife and plant species (List) at 50 CFR 17.11 and 17.12. Amendments to the List through final rules are published in the Federal Register. The Lists of wildlife and plants are available on our Internet site at http://www.fws.gov/endangered/wildlife/html#species. Section 4(c)(2)(A) of the Act requires that we conduct a review of listed species at least once every five years. Section 4(c)(2)(B) requires that we determine (1) whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. The regulations in 50 CFR 424.21 require that we publish a notice in the Federal Register announcing those species currently under active review. This announces our active review of the northern DPS of the copperbelly water snake.

Public Solicitation of New Information

To ensure that the 5-year review is complete and based on the best scientific and commercial data available, we are soliciting new information from the public, concerned governmental agencies, tribes, the scientific community, industry, environmental entities, and any other interested parties concerning the status of the northern DPS of the copperbelly water snake. A 5-year review considers the best scientific and commercial data and all new information that has become available since the listing determination or most recent status review. Requested information includes (A) species biology, including but not limited to population trends, distribution, abundance, demographics, and genetics; (B) habitat conditions, including but not limited to amount, distribution, and suitability; (C) conservation measures that have been implemented that benefit the species; (D) threat status and trends; and (E) other new information, data, or corrections, including but not limited to taxonomic or nomenclature changes, identification of erroneous information contained in the List, and improved analytical methods.

The copperbelly water snake was listed as a distinct population segment of a vertebrate taxon. The listed DPS occurs in Michigan, Ohio, and Indiana north of 40 degrees north latitude (approximately Indianapolis, Indiana). A distinct vertebrate population segment is defined in the February 7, 1996, Policy Regarding the Recognition of Distinct Vertebrate Population Segments (61 FR 4722). For a population to be listed under the Act as a DPS, three elements are considered: (1) The discreteness of the population segment in relation to the remainder of the species to which it belongs; (2) the significance of the population segment to the species to which it belongs; and (3) the population segment's conservation status in relation to the Act's standards for listing (i.e., is the population segment endangered or threatened?). Distinct population segments of vertebrate species, as well as subspecies of all listed species, may be proposed for separate reclassification or for removal from the List. As required by the DPS policy, we will assess the validity of the current DPS designation during the 5-year review. The southern population (i.e., in Illinois, Kentucky, and Indiana south of 40 degrees north latitude) is not listed as a threatened species at this time and is not part of this 5-year review.

Electronic Access and Filing

You must submit electronic information (see ADDRESSES) in MS Word, Rich Text format, or Plain Text format, and include “Copperbelly Water Snake 5-Year Review Comments” in the title line.

You may submit your comments and materials to the U.S. Fish and Wildlife Service, Ecological Services Field Supervisor (see ADDRESSES) no later than the close of the comment period (see DATES) to allow us adequate time to conduct this 5-year review. If you do not respond to this request for information but subsequently possess information on the status of this species, we are eager to receive new information regarding federally listed species at any time.

Our practice is to make comments, including names and home addresses of respondents, available for public review during regular business hours. Respondents may request that we withhold a respondent's identity, as allowable by law. If you wish us to withhold your name or address, you must state this request prominently at the beginning of your comment. We will not, however, consider anonymous comments. To the extent consistent with applicable law, we will make all submissions from organizations or businesses, and from individuals identifying themselves as representatives or officials of organizations or businesses, available for public inspection in their entirety. Information received in response to this notice and review will be available for public inspection, by appointment, during normal business hours (see ADDRESSES).

Authority: This document is published under the authority of the Endangered Species Act of 1973, as amended (16 U.S.C. 1531 et seq.).

Dated: May 19, 2006.
Wendi Weber,
Assistant Regional Director, Ecological Services, Region 3.

[FR Doc. E6-8565 Filed 6-1-06; 8:45 am]

BILLING CODE 4310-55-P